DEPARTMENT OF AGRICULTURE

Agricultural Research Service

United States National Arboretum (USNA); Notice of Intent To Renew an Expired Information Collection

AGENCY: Agricultural Research Service; Research, Education, and Economics; USDA.

ACTION: Notice and request for comment.

SUMMARY: The Department of Agriculture (USDA) seeks comments on the intent of the USNA to renew an expired information collection. The information collection serves as a means to collect fees to be charged for certain uses of the facilities, grounds, and services. This includes fees for the grounds and facilities, as well as for commercial photography and cinematography. Fees generated will be used to defray USNA expenses or to promote the mission of the USNA.

DATES: Comments must be submitted on or before August 8, 2001.

ADDRESSES: Address all correspondence to Thomas S. Elias, Director, U.S. National Arboretum, Beltsville Area, Agricultural Research Service, 3501 New York Avenue, NE., Washington, D.C. 20002.

FOR FURTHER INFORMATION CONTACT: Director, National Arboretum, Beltsville Area, ARS, 3501 New York Avenue, NE., Washington, D.C. 20002; (202) 245-4539.

SUPPLEMENTARY INFORMATION: Title: Intent to Renew an Expired Information Collection

OMB Number: 0518-0024.

Expiration Date of Approval: October 31, 2000.

Type of Request: To extend an approved information collection.

Abstract: The mission of the U.S. National Arboretum (USNA) is to conduct research, provide education, and conserve and display trees, shrubs, flowers, and other plants to enhance the environment. The USNA is a 446 acre public facility, open to the general public for purposes of education and passive recreation. Horticulture and gardening are very important aspects of American life. The USNA receives approximately 500,000 visitors each year. Garden clubs and societies like to use the USNA grounds to showcase their activities. The USNA has many spectacular features and garden displays which are very popular with the visitors. In order to administer the use of the USNA facilities and to determine if the requested use is consistent with the mission of the USNA, it is necessary for the USNA to obtain information from the requestor. The requestor is asked to indicate by whom and for what purpose the USNA facilities are to be used. This information is collected by official using applications in the form of questionnaires. Applications are in hard copy format received in person, by mail, and by facsimile. Work is underway to provide permits, and information at the USNA website (www-usna.usda.gov). Completed permit requests can be E-mailed, faxed, or delivered to the USNA.

Paperwork Reduction Act: In accordance with the Office of Management and Budget (OMB) regulations (5 CFR part 1320) which implement the Paperwork Reduction Act of 1995 (44 U.S.C. chapter 35), the information collection and record keeping requirements that will be imposed will be submitted to OMB for approval. These requirements will not become effective prior to OMB approval.

Background: Section 890(b) of the Federal Agriculture Improvement and Reform Act of 1996, Public Law 104-127 (1996 Act), expanded the authorities of the Secretary of Agriculture to charge reasonable fees for the use of USNA facilities and grounds. These authorities included the ability to charge fees for temporary use by individuals or groups of USNA facilities and grounds in furtherance of the mission of the USNA. Also, authority was provided to charge fees for the use of the USNA for commercial photography and cinematography. All rules and regulations noted in 7 CFR 500, subpart A, Conduct on the USNA property, will apply to individuals or groups granted approval to use the facilities and grounds.

Estimate of Burden: The USNA estimates 200 requests for the use of the facilities and 20 for photography and cinematography. Each request will require the completion of an application. The application is simple and requires only information readily available to the requestor. A copy of the application can be obtained from the USNA.

Estimated Total Annual Burden on Respondents: The estimated completion time for the application is 15 minutes for a total of 53 hours.

The photography application requires less than 10 minutes. The total cost for responding is $837 for 53 hours of time at $15.80 per hours. In addition to the current process of obtaining the permit requests in person, by mail, and by facsimile, (and receiving them back in like manner), the application for photography and cinematography is available on its website (www.usna.usda.gov/information/photography.html). The application for the use of facilities will be available on the website by the end of the calendar year. Completed permit requests can then be e-mailed to the Administrative Officer, National Arboretum, ARS, 3501 New York Avenue, NE, Washington, D.C. 20002.

Comments: Comments are invited on whether the proposed collection is necessary for the proper functioning of the facility, including whether the information will have practical ability; whether the estimate of the burden of the proposed collection is accurate; how to enhance the quality, utility and clarity of the information to be collected; and whether the burden of collection could be minimized.

Edward B. Knipling,
Associate Administrator, Agricultural Research Service.

[FR Doc. 01-13870 Filed 6-1-01; 8:45 am]

BILLING CODE 3410-03-U